DEPARTMENT OF ENERGY

Federal Energy Regulatory Commission

Combined Notice of Filings #1

Take notice that the Commission received the following electric rate filings:

Docket Numbers: ER10-1144-001; ER11-2014-003; ER11-2013-003; ER11-2005-003.

Applicants: CR Clearing, LLC, Exelon Generation Company, LLC, Wind Capital Holdings, LLC, Cow Branch Wind Power, LLC.

Description: Updated Market Power Analysis of Exelon Generation Company, LLC, et al.

Filed Date: 1/20/12.

Accession Number: 20120120-5079.

Comments Due: 5 p.m. ET 2/10/12.

Docket Numbers: ER11-4625-001.

Applicants: Colton Power L.P.

Description: Colton Power L.P. Market-Based Rate Tariff to be effective 2/2/2012.

Filed Date: 2/1/12.

Accession Number: 20120201-5166.

Comments Due: 5 p.m. ET 2/22/12.

Docket Numbers: ER12-658-001.

Applicants: R.E. Ginna Nuclear Power Plant, LLC.

Description: Compliance Filing of MBR Tariff Under ER12-658 to be effective 1/1/2012.

Filed Date: 2/1/12.

Accession Number: 20120201-5178.

Comments Due: 5 p.m. ET 2/22/12.

Docket Numbers: ER12-970-000.

Applicants: PJM Interconnection, LLC.

Description: Notice of Cancellation of Service Agreement 2976 in Docket No. ER11-4222-000 to be effective 1/24/2012.

Filed Date: 2/1/12.

Accession Number: 20120201-5165.

Comments Due: 5 p.m. ET 2/22/12.

Docket Numbers: ER12-971-000.

Applicants: Midwest Independent Transmission System Operator, Inc.

Description: 02-01-12 Coordination Agreement to be effective 12/31/9998.

Filed Date: 2/1/12.

Accession Number: 20120201-5191.

Comments Due: 5 p.m. ET 2/22/12.

Docket Numbers: ER12-972-000.

Applicants: Wolverine Power Supply Cooperative, Inc.

Description: Amended and Restated IFA with METC and City of Zeeland Re Blendon Substation to be effective 2/2/2012.

Filed Date: 2/1/12.

Accession Number: 20120201-5193.

Comments Due: 5 p.m. ET 2/22/12.

Docket Numbers: ER12-973-000.

Applicants: Verus Energy Trading, LLC.

Description: Verus Energy Trading, LLC's Initial Market-Based Rate Tariff to be effective 2/2/2012.

Filed Date: 2/1/12.

Accession Number: 20120201-5195.

Comments Due: 5 p.m. ET 2/22/12.

Docket Numbers: ER12-974-000.

Applicants: PJM Interconnection, LLC.

Description: PJM SA No. 3207 ISA filed for Integration of Duke Energy Ohio, Inc. Into PJM to be effective 1/1/2012.

Filed Date: 2/1/12.

Accession Number: 20120201-5222.

Comments Due: 5 p.m. ET 2/22/12.

Docket Numbers: ER12-976-000.

Applicants: Florida Power Corporation.

Description: Notice of Cancellation of Rate Schedule No. 115 of Florida Power Corporation.

Filed Date: 2/1/12.

Accession Number: 20120201-5242.

Comments Due: 5 p.m. ET 2/22/12.

Take notice that the Commission received the following electric reliability filings.

Docket Numbers: RD12-2-000.

Applicants: North American Electric Reliability Corporation.

Description: Petition of the North American Electric Reliability Corporation for Approval of Proposed SERC Regional Reliability Standard PRC-006-SERC-01—Automatic Underfrequency Load Shedding Requirements.

Filed Date: 2/1/12.

Accession Number: 20120201-5186.

Comments Due: 5 p.m. ET 3/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2012.
Nathaniel J. Davis, Sr.,
Deputy Secretary.

[FR Doc. 2012-2946 Filed 2-8-12; 8:45 am]

BILLING CODE 6717-01-P